DEPARTMENT OF HOUSING AND URBAN DEVELOPMENT

[Docket No. 5636-FA-01]

Announcement of Funding Awards; Capital Fund Safety and Security Grants; Fiscal Year 2011

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department. The public was notified of the availability of the Safety and Security funds with PIH Notice 2011-56 (Notice), which was issued October 4, 2011. Public Housing Authorities (PHAs) which met the criteria for funding contained in the Notice were funded. This announcement contains the consolidated names and addresses of this year's award recipients under the Capital Fund Safety and Security grant program.

FOR FURTHER INFORMATION CONTACT: For questions concerning the Safety and Security awards, contact Jeffrey Riddel, Director, Office of Capital Improvements, Office of Public Housing, Department of Housing and Urban Development, 451 7th Street SW., Room 4130, Washington, DC 20410, telephone (202) 708-1640. Hearing or speech-impaired individuals may access this number via TTY by calling the toll-free Federal Relay Service at (800) 877-8339.

SUPPLEMENTARY INFORMATION: The Capital Fund Safety and Security program provides grants to PHAs for physical safety and security measures necessary to address emergency increases in crime and drug-related activity. More specifically, in accordance with Section 9 of the United States Housing Act of 1937 (42 U.S.C. 1437g) (1937 Act), and the Department of Defense and Full-Year Continuing Appropriations Act, 2011 (Pub. L. 112-10, approved April 15, 2011) (FY 2011 appropriations), Congress appropriated funding to provide assistance to “public housing agencies for emergency capital needs including safety and security measures necessary to address crime and drug-related activity as well as needs resulting from unforeseen or unpreventable emergencies and natural disasters excluding Presidentially declared disasters occurring in fiscal year [2011].”

The FY 2011 awards in this Announcement were evaluated for funding based on the criteria in the Notice. These awards are funded from the set-aside in the FY 2011 appropriations.

In accordance with Section 102(a)(4)(C) of the Department of Housing and Urban Development Reform Act of 1989 (103 Stat.1987, 42 U.S.C. 3545), the Department is publishing the names, addresses, and amounts of the 37 awards made under the competition in Appendix A to this document.

Dated: April 11, 2012.
Sandra B. Henriquez,
Assistant Secretary for Public and Indian Housing.

Appendix A—Capital Fund Safety and Security Program FY2011 Awards
Name/address of applicant | Amount funded | Project description
Housing Authority of the City of Pine Bluff, 2503 Belle Meade Dr., Pine Bluff, AR 71601-6815 | $241,155 | Security Camera System, Radios, Fencing.
San Francisco Housing Authority, 1815 Egbert Avenue, San Francisco, CA 94124 | 250,000 | Security Camera Surveillance System.
Housing Authority of the City of Bridgeport, 150 Highland Avenue, Bridgeport, CT 06604-3503 | 240,000 | Security Camera System and Central Monitoring System.
Hartford Housing Authority, 180 Overlook Terrace, Hartford, CT 06106-3728 | 250,000 | Security Camera System, Security Lighting, Video Recorders.
Housing Authority of the City of Meriden, 22 Church St., Meriden, CT 06450 | 244,890 | Key Fob Lock System.
Norwalk Housing Authority, 24½ Monroe Street, Norwalk, CT 06856-2926 | 249,932 | Security Access Control System/Security Lighting.
Jacksonville Housing Authority, 1300 Broad Street, Jacksonville, FL 32202-3938 | 133,000 | Security Camera System/Security Lighting.
Newnan Housing Authority, 48 Ball Street, Newnan, GA 30263 | 250,000 | Security Camera System/Security Lighting.
Champaign County Housing Authority, 205 West Park Avenue, Champaign, IL 61820-3928 | 164,000 | Security Camera System, Security Lighting, Security Fence.
Housing Authority of the City of Freeport, 1052 West Galena Avenue, Freeport, IL 61032 | 250,000 | Security Lighting, Video Recorders.
Rockford Housing Authority, 223 South Winnebago Street, Rockford, IL 61102-2259 | 248,100 | Security Camera System and Video Monitoring System.
Saline County Housing Authority, 927 West Barnett Street, Harrisburg, IL 62946 | 75,000 | Security Camera System.
Housing Authority of Paducah, 2330 Ohio Street, Paducah, KY 42003—3306 | 98,590 | Security Camera System, Security Lighting Poles.
Housing Authority of Baltimore City, 417 E. Fayette Street, Baltimore, MD 21202-3431 | 250,000 | Security Camera System, Security Lighting.
Chelsea Housing Authority, 54 Locke Street, Chelsea, MA 02150-2250 | 250,000 | Security Camera System, Security Lighting, Entry and Alarm System.
New Bedford Housing Authority, 134 South Second Street, New Bedford, MA 02740 | 250,000 | Security Camera System, Security Lighting, Radios.
Worcester Housing Authority, 40 Belmont Street, Worcester, MA 01605 | 250,000 | Security Camera System, Security Lighting, Radios, Fencing.
Jackson Housing Commission, 301 Stewart Avenue, Jackson, MI 49201-1132 | 250,000 | Security Camera System.
Housing Authority of the City of Canton, 120 Faith Lane, Canton, MS 39046-3539 | 185,000 | Security Cameras, Fencing.
Burlington Housing Authority, 133 North Ireland Street, Burlington, NC 27217-2635 | 231,335 | Security Camera System.
East Carolina Regional Housing Authority, 2120 S. Slocumb St., Goldsboro, NC 27533-1315 | 168,000 | Security Camera Surveillance System.
Laurinburg Housing Authority, 1300 Woodlawn Drive, Laurinburg, NC 28352-5028 | 221,065 | Security Camera Surveillance System.
New Bern Housing Authority, 837 South Front Street, New Bern, NC 28562-5650 | 250,000 | Security Camera System, Security Lighting.
Omaha Housing Authority, 540 27th St., Omaha, NE 68105-1549 | 249,390 | Security Lighting.
Troy Housing Authority, One Eddy's Lane, Troy, NY 12180 | 250,000 | Security Camera System.
Cuyahoga Metropolitan Housing Authority, 120 Kinsman Road, Cleveland, OH 44104-4310 | 250,000 | Security Camera System, Network Video Recorders.
Tulsa Housing Authority, 415 East Independence Street, Tulsa, OK 74106-5727 | 250,000 | Security Camera System, Security Lighting.
Mercer County Housing Authority, 80 Jefferson Avenue, Sharon, PA 16146 | 244,695 | Security Camera System, Security Screen Doors, and Motion Sensor Lighting.
Central Falls Housing Authority, 30 Washington St., Central Falls, RI 02863-2842 | 54,875 | Security Key Lock System.
Providence Housing Authority, 100 Broad Street, Providence, RI 02903-4154 | 250,000 | Security Camera System.
Columbia Housing Authority, 1917 Harden Street, Columbia, SC 29204-1015 | 250,000 | Security Camera System, Security Lighting, Fence.
Ripley Housing Authority, 101 Northcrest Street, Ripley, TN 38063-1203 | 250,000 | Security Camera System, Security Lighting, Gates.
Fort Worth Housing Authority, 1201 E. 13th Street, Fort Worth, TX 76102-5764 | 250,000 | Security Fencing.
Houston Housing Authority, 2640 Fountain View Dr., Suite 400, Houston, TX 77057 | 250,000 | Security Camera System.
San Antonio Housing Authority, 818 Flores Street, San Antonio, TX 78204 | 250,000 | Security Cameras, Security Lighting, and Entry and Alarm System.
Wichita Falls Housing Authority, 501 Webster Street, Wichita Falls, TX 76306-2954 | 250,000 | Security Camera System, Security Lighting Poles.
Huntington Housing Authority, 300 7th Avenue West, Huntington, WV 25701 | 250,000 | Security Cameras/Network Video Recorders.

[FR Doc. 2012-9481 Filed 4-18-12; 8:45 am]

BILLING CODE 4210-67-P